NUCLEAR REGULATORY COMMISSION

[NRC-2020-0083]

Assumptions Used for Evaluating a Control Rod Ejection Accident for Pressurized Water Reactors

AGENCY: Nuclear Regulatory Commission.

ACTION: Regulatory guide; withdrawal.

SUMMARY: The U.S. Nuclear Regulatory Commission (NRC) is withdrawing regulatory guide (RG) 1.77, “Assumptions Used for Evaluating a Control Rod Ejection Accident for Pressurized Water Reactors.” This RG is being withdrawn because its guidance has been incorporated into a new RG, RG 1.236, “Pressurized-Water Reactor Control Rod Ejection and Boiling-Water Reactor Control Rod Drop Accidents.”

DATES: The withdrawal of RG 1.77 takes effect on June 19, 2020.

ADDRESSES: Please refer to Docket ID NRC-2020-0083 when contacting the NRC about the availability of information regarding this document. You may obtain publicly-available information related to this document using any of the following methods:

• Federal Rulemaking Website: Go to https://www.regulations.gov and search for Docket ID NRC-2020-0083. Address questions about NRC docket IDs in Regulations.gov to Jennifer Borges; telephone: 301-287-9127; email: Jennifer.Borges@nrc.gov. For technical questions, contact the individuals listed in the FOR FURTHER INFORMATION CONTACT section of this document.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The basis for withdrawal of RG 1.77 is available in ADAMS under Accession No. ML20084N202.

FOR FURTHER INFORMATION CONTACT: Paul Clifford, Office of Nuclear Reactor Regulation, telephone: 301-415-4043, email: Paul.Clifford@nrc.gov and Edward O'Donnell, Office of Nuclear Regulatory Research, telephone: 301-415-3317, email: Edward.ODonnell@nrc.gov. Both are staff of the U.S. Nuclear Regulatory Commission, Washington, DC 20555-0001.

SUPPLEMENTARY INFORMATION:

I. Introduction

Regulatory guides may be withdrawn by the NRC when their guidance no longer provides useful information or is superseded by technological innovations, congressional actions, or other events. The NRC is withdrawing RG 1.77 because its guidance has been incorporated into RG 1.236, “Pressurized-Water Reactor Control Rod Ejection and Boiling-Water Reactor Control Rod Drop Accidents” (ADAMS Accession No. ML20055F490). The basis for withdrawal is found in ADAMS under Accession No. ML20084N202.

II. Further Information

The withdrawal of RG 1.77 does not alter any prior or existing NRC licensing approval or the acceptability of licensee commitments to this RG. Although RG 1.77 is withdrawn, current licensees may continue to use it, and withdrawal does not affect any existing licenses or agreements. However, after the withdrawal of RG 1.77, licensees should use RG 1.236 in future requests or applications for NRC licensing actions related to the guidance in RG 1.77.

Dated: June 16, 2020.
For the Nuclear Regulatory Commission.
Meraj Rahimi,
Chief, Regulatory Guidance and Generic Issues Branch, Division of Engineering, Office of Nuclear Regulatory Research.

[FR Doc. 2020-13258 Filed 6-18-20; 8:45 am]

BILLING CODE 7590-01-P